OFFICE OF THE DIRECTOR OF NATIONAL INTELLIGENCE

Agency Information Collection Activities: Extension of Information Collection; Comment Request

AGENCY: Office of the Director of National Intelligence (ODNI).

ACTION: Notice.

SUMMARY: In December 2011, the ODNI accepted responsibility from the Information Security Oversight Office (ISOO) to manage the continuation in existence of Standard Form 714: Financial Disclosure Report, in accordance with the responsibilities assigned to the Director of National Intelligence (DNI) as Security Executive Agent. Standard Form 714 is used across the U.S. Government for assessing an individual's eligibility (or continued eligibility) for access to certain types of classified information. This standard form must be completed and submitted as a condition for access to designated classified information, along with a favorably adjudicated personnel security background investigation or reinvestigation. Accordingly, the ODNI is seeking to revive and maintain in effect for an additional three years the version of Standard Form 714 that expired on 6/30/12. The ODNI proposed no changes to the Standard Form 714 and its instructions at this time.

DATES: Written comments must be received on or before December 1, 2014 to be assured of consideration.

ADDRESSES: Comments should be sent to: dni-foia@dni.gov.

FOR FURTHER INFORMATION CONTACT: Requests for additional information or copies of the information collection and supporting statements should be directed to Ms. Jennifer L. Hudson, Director of the Information Management Division, Office of the Chief Information Officer, Office of the Director of National Intelligence, Washington, DC 20511; 703-874-8085

SUPPLEMENTARY INFORMATION: Pursuant to the Paperwork Reduction Act of 1995 (Pub. L. 104-13), ODNI is requesting extension in effect of SF 714, proposing no changes to the Form and its instructions at this time. ODNI invites the general public and other Federal agencies to comment on Standard Form 714. The comments and suggestions should address one or more of the following points: (a) Whether the proposed information collection reflected in the Standard Form 714 meets the intent of section 1.3 (“Financial Disclosure”) of Executive Order 12968, as amended (“Access to Classified Information”); (b) the accuracy of the estimated burden of the proposed information collection for Standard Form 714; (c) ways to enhance the quality, utility, and clarity of the information to be collected in the Standard Form 714; (d) ways, including the use of information technology, to minimize the burden of the collection of information on all respondents to the Standard Form 714; and (e) whether small businesses are affected by this collection. The comments that are submitted will be summarized and included in the ODNI request for Office of Management and Budget (OMB) approval. All comments will become a matter of public record.

Abstract: The National Security Act of 1947, as amended; section 3001 of the Intelligence Reform and Terrorism Prevention Act of 2004; and Executive Order 13467, “Reforming Processes Related to Suitability for Government Employment, Fitness for Contractor Employees, and Eligibility for Access to Classified National Security Information,” authorize the DNI, as the Security Executive Agent, to develop standard forms, including a standard financial disclosure form, that promotes uniformity and consistency in the implementation of the Government's security programs.

The Financial Disclosure Report contains information that is used to assist in making eligibility determinations for access to specifically designated classified information pursuant to Executive Order 12968, as amended, “Access to Classified Information.” The data may later be used as part of a review process to evaluate continued eligibility for access to such specifically designated classified information or as evidence in legal proceedings. In addition, law enforcement entities may use this data where pertinent to appropriate investigatory activity.

Respondent burden data follows below:

Title: Financial Disclosure Report.

OMB number: 3440-0001.

Agency form number: Standard Form 714.

Type of review: Regular.

Affected public: Business or other for-profit.

Estimated number of respondents: 86,000.

Estimated time per response: 2 hours.

Frequency of response: Annually.

Estimated total annual burden hours: 172,000 hours.

Dated: October 16, 2014.
Mark W. Ewing,
Chief Management Officer.

[FR Doc. 2014-25846 Filed 10-29-14; 8:45 am]

BILLING CODE 9500-01-P-P